DEPARTMENT OF COMMERCE

Foreign-Trade Zones Board

[Order No. 1768]

Expansion of Foreign-Trade Zone 78; Nashville, TN

Pursuant to its authority under the Foreign-Trade Zones Act of June 18, 1934, as amended (19 U.S.C. 81a-81u), the Foreign-Trade Zones Board (the Board) adopts the following Order:

Whereas, the Metropolitan Government of Nashville and Davidson County, grantee of Foreign-Trade Zone 78, submitted an application to the Board for authority to expand FTZ 78 to include sites in the Nashville, Tennessee, area, adjacent to the Nashville Customs and Border Protection port of entry (FTZ Docket 64-2010, filed November 5, 2010);

Whereas, notice inviting public comment has been given in the Federal Register (75 FR 69398, 11/12/10) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 78 is approved, subject to the FTZ Act and the Board's regulations, including Section 400.28, to the Board's standard 2,000-acre activation limit for the overall general-purpose zone project, and to sunset provisions that would terminate authority for existing Sites 1-5 on June 30, 2016 and for Sites 8-12 on June 30, 2018 where no activity has occurred under FTZ procedures before those dates.

Signed at Washington, DC, this 22nd day of June 2011.
Ronald K. Lorentzen,
Deputy Assistant Secretary for Import Administration, Alternate Chairman, Foreign-Trade Zones Board.
ATTEST:
June 22, 2011.
Andrew McGilvray,
Executive Secretary.

[FR Doc. 2011-16906 Filed 7-5-11; 8:45 am]

BILLING CODE P